DEPARTMENT OF DEFENSE

Office of the Secretary

Proposed Collection: Comment Request

AGENCY: Office of the Under Secretary of Defense for Personnel and Readiness, DoD.

ACTION: Notice.

In compliance with Section 3506(c)(2)(A) of the Paperwork Reduction Act of 1995, the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by February 7, 2006.

ADDRESSES: Written comments and recommendations on the proposed information collection should be sent to the Office of the Under Secretary of Defense for Personnel and Readiness, Office of Legal Policy, ATTN: COL Christopher Garcia, 4000 Defense Pentagon, Washington, DC 20301-4000.

FOR FURTHER INFORMATION CONTACT: To request more information on this proposed information collection or to obtain a copy of the proposal and associated collection instruments, please write to the above address or call at (703) 697-3387.

Title, Associated Form, and OMB Control Number: Claim for Reimbursement and Payment Voucher for Privately-Purchased Protective, Safety, or Health Equipment Used in Combat; DD Form 2902, OMB Number 0704-0436.

Needs and Uses: This information collection requirement is necessary to accept claims and process those claims for reimbursement from separated former members of the Armed Forces and from survivors of deceased members of the Armed Forces. Public Law 108-375, section 351, requires the Department of Defense to reimburse members of the Armed Forces for privately-purchased protective, safety, or health equipment for Operations Noble Eagle, Enduring Freedom, and Iraqi Freedom during the period of September 11, 2001, to July 31, 2004. The DD Form 2902 will be submitted by the former Service member, or survivor of deceased Service member, to an authorizing official identified on the DD Form 2902 for review and approval.

Affected Public: Individuals.

Annual Burden Hours: 1875.

Number of Respondents: 2500.

Responses Per Respondent: 1.

Average Burden Per Response: 45 minutes.

Frequency: Other: One-time.

SUPPLEMENTARY INFORMATION:

Summary of Information Collection

This information will be used only to comply with Public Law 108-375, section 351: to pay former Service members and survivors of deceased Service members for reimbursement for privately-purchased protective, health, or safety equipment for Operations Noble Eagle, Enduring Freedom, and Iraqi Freedom. Individual claimants will fill out DD Form 2902, listing the details of what they bought and how much it cost. They will fax or mail the form with supporting documents to an authorizing official for their (or their decedent's) former military Service. The Service authorizing official will use the information on the form to process and pay the claim. The Defense Finance and Accounting Service will use the information on the form to send payment to the claimant.

Dated: December 5, 2005.
Patricia L. Toppings,
Alternate OSD Federal Register Liaison Officer, Department of Defense.

[FR Doc. 05-23823 Filed 12-8-05; 8:45 am]

BILLING CODE 5001-06-M